DEPARTMENT OF HOMELAND SECURITY

Bureau of Customs and Border Protection

Notice of Cancellation of Customs Broker License

AGENCY: Bureau of Customs and Border Protection, U.S. Department of Homeland Security.

ACTION: General notice.

SUMMARY: Pursuant to section 641 of the Tariff Act of 1930, as amended (19 U.S.C. 1641), and the Customs Regulations (19 CFR 111.51), the following Customs broker licenses are canceled without prejudice.

Name | License # | Issuing port
GPS Customshouse Brokerage | 7181 | Norfolk.
Robert O. Kechian | 6918 | New York.
Martin Strauss Air Freight | 3893 | New York.
Trans Air Marine | 11218 | New York.

Dated: March 18, 2004.
Jayson P. Ahern,
Assistant Commissioner, Office of Field Operations.

[FR Doc. 04-7385 Filed 3-31-04; 8:45 am]

BILLING CODE 4820-02-P